DEPARTMENT OF THE INTERIOR

National Park Service

[NPS-WASO-NAGPRA-12738; PPWOCRADN0-PCU00RP14.R50000]

Notice of Inventory Completion for Native American Human Remains and Associated Funerary Objects in the Possession of the U.S. Department of the Interior, National Park Service, Natchez Trace Parkway, Tupelo, MS; Correction; Correction

AGENCY: National Park Service, Interior.

ACTION: Notice; correction.

SUMMARY: The U.S. Department of the Interior, National Park Service, Natchez Trace Parkway has corrected an inventory of human remains and associated funerary objects, published in a Notice of Inventory Completion Correction in the Federal Register on April 1, 2005. This notice corrects the number of additional associated funerary objects from the Bynum Mounds site. Transfer of control of the items in this correction notice has occurred.

ADDRESSES: Dale Wilkerson, Acting Superintendent, Natchez Trace Parkway, 2680 Natchez Trace Parkway, Tupelo, MS 38803, telephone (662) 680-4025, email Dale_Wilkerson@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Natchez Trace Parkway, Tupelo, MS. The human remains and associated funerary objects were removed from Chickasaw County, MS.

This notice is published as part of the National Park Service's administrative responsibilities under NAGPRA, 25 U.S.C. 3003(d)(3). The determinations in this notice are the sole responsibility of the Superintendent, Natchez Trace Parkway.

This notice corrects the number of associated funerary objects published in a Notice of Inventory Completion Correction in the Federal Register (70 FR 16838, April 1, 2005). A review of records found a typographical error in the number of additional associated funerary objects from the Bynum Mounds site. The total number of associated funerary objects is unchanged. Transfer of control of the items in this correction notice has occurred.

Correction

In the Federal Register (70 FR 16838, April 1, 2005), paragraph 3, sentence 2 is corrected by substituting the following sentence:

A review of Natchez Trace Parkway collections resulted in the identification of 27 additional associated funerary objects from the Alton's Chickasaw Village site, 1 incorrectly identified associated funerary object from the Ackia Village site, and 610 additional associated funerary objects from the Bynum Mounds site, all culturally affiliated with the same tribe as described in the original notice.

Additional Requestors and Disposition

Transfer of control of the human remains and associated funerary objects occurred after the 30-day waiting period expired for the original April 1, 2005, Notice of Inventory Completion. For questions related to this notice, contact Dale Wilkerson, Acting Superintendent, Natchez Trace Parkway, 2680 Natchez Trace Parkway, Tupelo, MS 38803, telephone (662) 680-4025, email Dale_Wilkerson@nps.gov.

Natchez Trace Parkway is responsible for notifying the Absentee-Shawnee Tribe of Indians of Oklahoma; Alabama-Coushatta Tribe of Texas (previously listed as the Alabama-Coushatta Tribes of Texas); Alabama-Quassarte Tribal Town; Cherokee Nation; Chickasaw Nation; Chitimacha Tribe of Louisiana; Choctaw Nation of Oklahoma; Eastern Band of Cherokee Indians; Eastern Shawnee Tribe of Oklahoma; Jena Band of Choctaw Indians; Kialegee Tribal Town; Miccosukee Tribe of Indians; Mississippi Band of Choctaw Indians; Poarch Band of Creeks (previously listed as the Poarch Band of Creek Indians of Alabama); Seminole Tribe of Florida (previously listed as the Seminole Tribe of Florida (Dania, Big Cypress, Brighton, Hollywood & Tampa Reservations)); Shawnee Tribe; The Muscogee (Creek) Nation; The Seminole Nation of Oklahoma; Thlopthlocco Tribal Town; Tunica-Biloxi Indian Tribe; and United Keetoowah Band of Cherokee Indians in Oklahoma that this notice has been published.

Dated: April 2, 2013.
Sherry Hutt,
Manager, National NAGPRA Program.

[FR Doc. 2013-10221 Filed 4-30-13; 8:45 am]

BILLING CODE 4312-50-P